DEPARTMENT OF COMMERCE

National Oceanic and Atmospheric Administration

[I.D. 020107D]

Marine Mammals; File No. 87-1851

AGENCY: National Marine Fisheries Service (NMFS), National Oceanic and Atmospheric Administration (NOAA), Commerce.

ACTION: Notice; issuance of permit.

SUMMARY: Notice is hereby given that Daniel P. Costa, Ph.D., Department of Biology and Institute of Marine Sciences, University of California, Santa Cruz, CA 95064 has been issued a permit to conduct research on pinnipeds in Antarctica and California.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Amy Sloan or Jaclyn Daly, (301)713-2289.

SUPPLEMENTARY INFORMATION: On August 3, 2006, notice was published in the Federal Register (71 FR 44020) that a request for a scientific research permit to conduct research on seals and sea lions had been submitted by the above-named individual. The requested permit has been issued under the authority of the Marine Mammal Protection Act of 1972, as amended (16 U.S.C. 1361 et seq.), and the regulations governing the taking and importing of marine mammals (50 CFR part 216).

The 5-year permit authorizes tagging studies and physiological research on seals in Antarctica, including crabeater seals (Lobodon carcinophagus), southern elephant seals (Mirounga leonina), leopard seals (Hydrurga leptonyx), Weddell seals (Leptonychotes weddellii), and Ross seals (Ommatophoca rossii). The permit also authorizes research on California sea lions (Zalophus californianus) to investigate foraging, diving, energetics, food habits, and at-sea distribution along the California coast. Incidental harassment of California sea lions, harbor seals (Phoca vitulina), northern elephant seals (Mirounga augustirostris), and northern fur seals (Callorhinus ursinus) is authorized.

In compliance with the National Environmental Policy Act of 1969 (42 U.S.C. 4321 et seq.), a final determination has been made that the activity proposed is categorically excluded from the requirement to prepare an environmental assessment or environmental impact statement.

Dated: February 1, 2007.
P. Michael Payne,
Chief, Permits, Conservation and Education Division, Office of Protected Resources, National Marine Fisheries Service.

[FR Doc. E7-2044 Filed 2-6-07; 8:45 am]

BILLING CODE 3510-22-S